DEPARTMENT OF TRANSPORTATION

Federal Aviation Administration

14 CFR Part 39

[Docket No. 2003-CE-21-AD; Amendment 39-13361; AD 2003-22-13]

RIN 2120-AA64

Airworthiness Directives; AeroSpace Technologies of Australia Pty Ltd. Models N22B and N24A Airplanes

AGENCY: Federal Aviation Administration (FAA), DOT.

ACTION: Final rule.

SUMMARY: The FAA adopts a new airworthiness directive (AD) for all AeroSpace Technologies of Australia Pty Ltd. (ASTA) Models N22B and N24A airplanes. This AD requires you to visually inspect the ailerons for damage and replace if necessary; adjust the engine power levers aural warning microswitches; set flap extension and flap down operation limitations; and fabricate and install cockpit flap extension and flap down operation restriction placards. This AD is the result of mandatory continuing airworthiness information (MCAI) issued by the airworthiness authority for Australia. We are issuing this AD to prevent damage to the aileron due to airplane operation and pre-existing and undetected damage, which could result in failure of the aileron. Such failure could lead to reduced or loss of control of the airplane.

DATES: This AD becomes effective on December 23, 2003.

As of December 23, 2003, the Director of the Federal Register approved the incorporation by reference of certain publications listed in the regulation.

ADDRESSES: You may get the service information identified in this AD from Nomad Operations, Aerospace Support Division, Boeing Australia, PO Box 767, Brisbane, QLD 4000 Australia; telephone 61 7 3306 3366; facsimile 61 7 3306 3111.

You may view the AD docket at FAA, Central Region, Office of the Regional Counsel, Attention: Rules Docket No. 2003-CE-21-AD, 901 Locust, Room 506, Kansas City, Missouri 64106. Office hours are 8 a.m. to 4 p.m., Monday through Friday, except Federal holidays.

FOR FURTHER INFORMATION CONTACT: Ron Atmur, Aerospace Engineer, FAA, Los Angeles Aircraft Certification Office, 3960 Paramount Boulevard, Lakewood, California 90712; telephone (562) 627-5224; facsimile (562) 627-5210.

SUPPLEMENTARY INFORMATION:

Discussion

What events have caused this AD? The Civil Aviation Safety Authority (CASA), which is the airworthiness authority for Australia, recently notified FAA that an unsafe condition may exist on all ASTA Models N22B and N24A airplanes. The CASA reports several incidents of ailerons incurring damage during flight. Extensive tests and analysis revealed that the cause of the damage to the ailerons is a result of operation outside approved limits and undetected pre-existing damage. This condition causes the aileron to flutter as well as damage and failure.

The CASA lowered the operational limits of the affected airplanes in order to prevent damage from occurring. Additional reports of aileron flutter have been received even when operating within these lower approved limits.

As a precautionary measure, the CASA is further restricting flight operations.

What is the potential impact if FAA took no action? If this condition is not corrected, it could result in aileron failure. Such failure could lead to reduced or loss of control of the airplane.

Has FAA taken any action to this point? We issued a proposal to amend part 39 of the Federal Aviation Regulations (14 CFR part 39) to include an AD that would apply to all ASTA Models N22B and N24A airplanes. This proposal was published in the Federal Register as a notice of proposed rulemaking (NPRM) on August 18, 2003 (68 FR 49390). The NPRM proposed to visually inspect the ailerons for damage and replace if necessary; adjust the engine power levers aural warning microswitches; set flap extension and flap down operation limitations; and fabricate and install cockpit flap extension and flap down operation restriction placards.

Comments

Was the public invited to comment? We provided the public the opportunity to participate in the development of this AD. We received no comments on the proposal or on the determination of the cost to the public.

Conclusion

What is FAA's final determination on this issue? We have carefully reviewed the available data and determined that air safety and the public interest require adopting the AD as proposed except for minor editorial corrections. We have determined that these minor corrections:

—Provide the intent that was proposed in the NPRM for correcting the unsafe condition; and

—Do not add any additional burden upon the public than was already proposed in the NPRM.

Changes to 14 CFR Part 39—Effect on the AD

How does the revision to 14 CFR part 39 affect this AD? On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How many airplanes does this AD impact? We estimate that this AD affects 10 airplanes in the U.S. registry.

What is the cost impact of this AD on owners/operators of the affected airplanes? We estimate the following costs to accomplish the inspection:

Labor cost | Parts cost | Total cost per airplane | Total cost on U.S. operators
1 workhour × $60 per hour = $60 | Not applicable | $60 | 10 × $60 = $600

We estimate the following costs to accomplish any necessary replacements that would be required based on the results of this inspection. We have no way of determining the number of airplanes that may need such repair/replacement:

Labor cost | Parts cost | Total cost per airplane
10 workhours × $60 per hour = $600 | $1,250 | $600 + $1,250 = $1,850

We estimate the following costs to accomplish the modifications:

Labor cost | Parts cost | Total cost per airplane | Total cost on U.S. operators
10 workhours × $60 per hour = $600 | $100 | $700 | $700 × 10 = $7,000

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2003-CE-21-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2003-22-13 Aerospace Technologies of Australia PTY Ltd.: Amendment 39-13361; Docket No. 2003-CE-21-AD.

When Does This AD Become Effective?

(a) This AD becomes effective on December 23, 2003.

What Other ADs Are Affected by This Action?

(b) None.

What Airplanes Are Affected by This AD?

(c) What airplanes are affected by this AD? This AD affects Models N22B and N24A airplanes, all serial numbers, that are certificated in any category.

What Is the Unsafe Condition Presented in This AD?

(d) This AD is the result of mandatory continuing airworthiness information (MCAI) issued by the airworthiness authority for Australia. The actions specified in this AD are intended to prevent damage to the aileron due to airplane operation and pre-existing and undetected damage, which could result in failure of the aileron. Such failure could lead to reduced or loss of control of the airplane.

What Must I Do to Address This Problem?

(e) To address this problem, you must accomplish the following:

Actions | Compliance | Procedures
(1) Visually inspect the left-hand (LH) and right-hand (RH) ailerons for damage (i.e., distortion, bending, impact marks). Repair or replace any damaged aileron found | Inspect within the next 50 hours time-in-service (TIS) after December 23, 2003 (the effective date of this AD), unless already accomplished. Repair or replace prior to further flight after the inspection | In accordance with the applicable maintenance manual.
(2) Adjust the engine power lever actuated landing gear “up” aural warning microswitches and then perform a ground test. If deficiencies are detected during the ground test, make the necessary adjustments | Within the next 50 hours time-in-service (TIS) after December 23, 2003 (the effective date of this AD), unless already accomplished | In accordance with Nomad Alert Service Bulletin ANMD-57-18, dated December 19, 2002, and the applicable maintenance manual.
(3) For Model N22B airplanes: (i) fabricate placards that incorporate the following words (using at least 1/18-inch letters) and install these placards on the instrument panel within the pilot's clear view: (A) “RECOMMENDED APPROACH FLAPS 10 OR 20 DEG AT 90 KIAS”; (B) “USE 10° OR 20° FLAP FOR TAKE-OFF AND LANDING—WARNING—DO NOT EXCEED 20° FLAP EXTENSION DURING FLIGHT, LANDING GEAR UP WARNING WILL INITIATE FOR A TORQUE PRESSURE OF LESS THAN 30 PSI”; and (ii) incorporate the following information into the limitation section of the Airplane Flight Manual (AFM): (A) limit the maximum flap extension to 20 degrees; and (B) limit flaps down operations for landing to 10° or 20° flap. | Within the next 50 hours time-in-service (TIS) after December 23, 2003 the effective date of this AD), unless already accomplished | In accordance with Nomad Alert Service Bulletin ANMD-57-18, dated December 19, 2002. Accomplish the limitations of paragraphs (e)(3)(ii)(A) and (e)(3)(ii)(B) of this AD by inserting a copy of the AD into the Limitations Section of the flight manual. The owner/operator holding at least a private pilot certificate as authorized by section 43.7 of the Federal Aviation Regulations (14 CFR 43.7) may accomplish this flight manual insertion and the placard requirements of paragraph (e)(3)(i)(A) and (e)(3)(i)(B) of this AD. Make an entry into the aircraft records showing compliance with these portions of the AD in accordance with section 43.9 of the Federal Aviation Regulations (14 CFR 43.9).
(4) For Model N24A airplanes: (i) fabricate a placard that incorporates the following words (using at least ⅛-inch letters) and install this placard on the instrument panel within the pilot's clear view: “USE 10° FLAP FOR TAKE-OFF and LANDING—WARNING—DO NOT EXCEED 10° FLAP EXTENSION DURING FLIGHT, LANDING GEAR UP WARNING WILL INITIATE FOR A TORQUE PRESSURE OF LESS THAN 30 PSI”; and (ii) incorporate the following information into the limitation section of the Airplane Flight Manual (AFM): (A) limit the maximum flap extension to 10 degrees; and (B) limit flaps down operations for landing to 10° flap. | Within the next 50 hours time-in-service (TIS) after December 23, 2003 (the effective date of this AD), unless already accomplished | In accordance with Nomad Alert Service Bulletin ANMD-57-18, dated December 19, 2002. Accomplish the limitations of paragraphs (e)(4)(ii)(A) and (e)(4)(ii)(B) of this AD by inserting a copy of the AD into the Limitations Section of the flight manual. The owner/operator holding at least a private pilot certificate as authorized by section 43.7 of the Federal Aviation Regulations (14 CFR 43.7) may accomplish this flight manual insertion and the placard requirement of paragraph (e)(4)(i) of this AD. Make an entry into the aircraft records showing compliance with these portions of the AD in accordance with section 43.9 of the Federal Aviation Regulations (14 CFR 43.9).

What About Alternative Methods of Compliance?

(f) You may request a different method of compliance or a different compliance time for this AD by following the procedures in 14 CFR 39.13. Send your request to the Manager, Standards Office, Small Airplane Directorate, FAA. For information on any already approved alternative methods of compliance, contact Ron Atmur, Aerospace Engineer, FAA, Los Angeles Aircraft Certification Office, 3960 Paramount Boulevard, Lakewood, California 90712; telephone (562) 627-5224; facsimile (562) 627-5210.

Is There Material Incorporated by Reference?

(g) You must do the actions required by this AD per Nomad Alert Service Bulletin ANMD-57-18, dated December 19, 2002. The Director of the Federal Register approved the incorporation by reference of this service bulletin in accordance with 5 U.S.C. 552(a) and 1 CFR part 51. You may get a copy from Nomad Operations, Aerospace Support Division, Boeing Australia, PO Box 767, Brisbane, QLD 4000 Australia; telephone 61 7 3306 3366; facsimile 61 7 3306 3111. You may review copies at FAA, Central Region, Office of the Regional Counsel, 901 Locust, Room 506, Kansas City, Missouri 64106; or at the Office of the Federal Register, 800 North Capitol Street, NW., suite 700, Washington, DC.

Is There Other Information That Relates to This Subject?

(h) Australian AD/GAF-N22/69, Amendment 4, dated February 27, 2003.

Issued in Kansas City, Missouri, on October 31, 2003.
James E. Jackson,
Acting Manager, Small Airplane Directorate, Aircraft Certification Service.

[FR Doc. 03-27921 Filed 11-12-03; 8:45 am]

BILLING CODE 4910-13-U